DEPARTMENT OF THE INTERIOR

Bureau of Land Management

[CA-330-04-1610-DN]

Notice of Intent To Prepare Arcata Resource Management Plan Amendment for Recently Acquired Humboldt County Coastal Lands

AGENCY: Bureau of Land Management, Interior.

ACTION: Notice of intent.

SUMMARY: This document provides notice that the Bureau of Land Management (BLM) Arcata Field Office intends to prepare a Resource Management Plan (RMP) Amendment with an associated Environmental Assessment (EA) for recently acquired BLM coastal lands in Humboldt County in Northwest California. The lands addressed by this amendment have been acquired through a combination of fee title and conservation easements, using private donations and state and Federal funds.

Approximately 1100 acres have been acquired by the BLM along the Humboldt County coast since completion of the Arcata RMP in 1992. These lands are located in T.6N., R.1W., Secs. 26, 27, 34 and 35; T.4N., R.2W., Secs. 13, 14, 23, 24, 26 and 27; and T.2N., R.3W., Secs. 12, 13, 23, 24, 25, 26, Humboldt Meridian. The plan amendment will fulfill the obligations set forth by the National Environmental Policy Act (NEPA), the Federal Land Policy and Management Act (FLPMA) and BLM management policies. The plan amendment will serve to update the Arcata RMP and associated amendments for the affected lands. The BLM will work collaboratively with interested parties to identify the management decisions that are best suited to local, regional, and national needs and concerns. The public scoping process will identify planning issues, develop planning criteria, and outline a vision for area management that reflects the needs and interests of the public and protection of the areas' resource values.

DATES: The publication of this notice initiates the public scoping process. Public comments concerning the scope of the draft RMP amendment should be submitted within 30 days of the date of publication of this notice in the Federal Register. Comments are requested on potential issues, alternatives, as well as any suggested planning criteria that BLM should use to guide the plan amendment process.

Public Participation: Public input will be accepted throughout the preparation period. Public open houses will be held in the Eureka, CA area during the scoping period and again with the release of the draft RMP amendment. Information concerning the planning process, including open houses and other public participation opportunities, will be announced by BLM through news releases, direct mailings or other applicable means of public notification. Current information about the planning process is also maintained at the Arcata Field Office, 1695 Heindon Rd., Arcata, CA 95521, telephone (707) 825-2300.

ADDRESSES: Scoping comments should be sent to Arcata RMP Amendment, Bureau of Land Management, Arcata Field Office, 1695 Heindon Road, Arcata, California 95521; Fax (707) 825-2301, or e-mail at caweb330@ca.blm.gov. The BLM will maintain a record of public documents related to the development of the RMP amendment at the Arcata Field Office at the address listed above. Comments, including names and street addresses of respondents, will be available for public review at the Arcata Field Office during regular business hours, 7:45 a.m. to 4:30 p.m., Monday through Friday, excluding Federal holidays, and may be published as part of the environmental assessment. Individual respondents may request confidentiality. Individuals who wish to withhold their name or street address from public review or from disclosure under the Freedom of Information Act must state this prominently at the beginning of their written comment. Such requests will be honored to the extent allowed by law. All submissions from organizations and businesses, and from individuals identifying themselves as representatives or officials of organizations or businesses, will be available for public inspection in their entirety.

FOR FURTHER INFORMATION: For further information or to have your name added to the mailing list, contact Bob Wick, telephone (707) 825-2321 or e-mail to rwick@ca.blm.gov.

SUPPLEMENTARY INFORMATION: A plan amendment is needed because the existing 1992 Arcata RMP does not provide specific management direction for the coastal properties identified in this notice (since they were not managed by the BLM at the time of the RMP approval). The lands contain a number of resource issues/opportunities that call for a plan amendment to facilitate management. Portions of the acquired lands contain populations of Federally listed threatened and endangered species including two plants; beach layia (Layia carnosa) and Humboldt Bay wallflower (Erysimum menziesii ssp. eurekense); one endangered bird, the California brown pelican (Pelecanus occidentalis californicus); and one threatened bird, the western snowy plover (Charadrius alexandrinus nivosus). The plan amendment will include measures to protect habitat for these species.

The South Spit makes up the majority of the acquired lands and is the primary reason behind the timeframe for the RMP amendment. Through a Deed of Conservation Easement, the State of California conveyed to the Bureau of Land Management (BLM) management authority over the South Spit in all aspects of its use in perpetuity. The deed conveying an easement to the BLM from the State of California stated that the area will be administered consistent with management planning. This long-term management plan will involve a community-based partnership approach with all interested parties and the general public. This includes the Table Bluff Reservation—Wiyot Tribe, government agencies, environmental and conservation organizations, and recreation groups. The BLM completed an interim plan/biological assessment in 2003 with an understanding that a long-term plan would be completed within three years (2006). The current process will serve to develop this long-term plan and will include both RMP and implementation level decisions.

The South Spit is a unique and significant area to the region. Due to the area's natural diversity, cultural resource values, and populations of sensitive species, protection of these resources is necessary and will require active management. The South Spit has historically provided a variety of recreation activities and other public uses. The BLM will work collaboratively with other agencies, tribes and interested parties to identify the management decisions that are best suited to local, regional, and national needs and concerns. Preliminary issues and management concerns have been identified by BLM personnel, other agencies, and in meetings with individuals and user groups, including: Protection and enhancement of threatened and endangered plant and animal species and their habitats; Control of invasive non-native vegetation, including European beachgrass, iceplant, yellow bush lupine, and others; Importance of the area to the cultural heritage of the Wiyot people and sensitivity of Tribal areas; Traditional use for recreation opportunities such as waterfowl hunting, wildlife/wildlands observation, photography, fishing, surfing, environmental education, horse use and vehicle access to the waveslope.

Disciplines involved in the planning process will include specialists with expertise in wildlife management, geology, archaeology, lands and realty, recreation, botany, and information technology. Several alternatives will be evaluated as part of the Environmental Assessment process. These will include: A “No Action” Alternative-continuation of present management; and one or several other alternatives to best address the issues identified during the scoping process.

Dated: October 11, 2005.
Lynda Roush,
Field Manager, Arcata Field Office.

[FR Doc. E5-6976 Filed 12-6-05; 8:45 am]

BILLING CODE 4310-40-P